DEPARTMENT OF EDUCATION

National Advisory Council on Indian Education (NACIE)

AGENCY: U.S. Department of Education.

ACTION: Notice of an open meeting.

SUMMARY: Notice of this meeting is required by the Federal Advisory Committee Act (FACA) and is intended to notify members of the public of an upcoming NACIE open meeting.

DATES: The NACIE open virtual meeting will be held on April 26, 2022 from 1-4:30 p.m. (EDT) and April 27, 2022 from 1-4:30 p.m. (EDT).

FOR FURTHER INFORMATION CONTACT: Donna Sabis-Burns, Designated Federal Official, Office of Elementary and Secondary Education (OESE)/Office of Indian Education (OIE), U.S. Department of Education, 400 Maryland Avenue SW, Washington, DC 20202. Telephone: 202-213-9014, Email: Donna.Sabis-Burns@ed.gov.

SUPPLEMENTARY INFORMATION: Statutory Authority and Function: NACIE is authorized by Section 6141 of the Elementary and Secondary Education Act of 1965, as amended (ESEA). The work of the Council was expanded per Executive Order 14049. NACIE is established within the U.S. Department of Education to advise the Secretary of Education, the Secretary of Interior, the Secretary of Labor, and the White House Initiative on Advancing Educational Equity, Excellence and Economic Opportunity and Strengthening Tribal Colleges and Universities (Initiative) as well as the co-chairs of the Initiative (Secretaries of Education Interior and Labor) on the funding and administration (including the development of regulations, and administrative policies and practices) of any program over which the Secretary of Education has jurisdiction and that includes Indian children or adults as participants or that may benefit Indian children or adults, including any program established under Title VI, Part A of the ESEA. In accordance with Section 3 of Executive Order 14049, NACIE submits to the Congress each year a report on its activities that includes recommendations that are considered appropriate for the improvement of Federal education programs that include Indian children or adults as participants or that may benefit Indian children or adults, and recommendations concerning the funding of any such program.

Meeting Agenda: The purpose of this meeting is to convene NACIE to conduct the following business: (1) Participate in a dialogue with Biden-Harris Administration Officials, (2) convene a roundtable with White House Initiative on Advancing Educational Equity, Excellence, and Economic Opportunity for Native Americans and Strengthening Tribal Colleges and Universities Education staff, (3) conduct an overview of the development of NACIE's Fiscal Year 2022 Annual Report to Congress, and (4) conduct an overview and seek recommendations on the activities of the Office of Indian Education.

Instructions for Accessing the Meeting: Members of the public may access the NACIE meeting via teleconference and the web. Up to 350 lines will be available on a first come, first serve basis. The dial-in listen only phone number for the meeting is 1-669-254-5252, Meeting ID: 161 715 5166. The web link to register to access the meeting via Zoom.gov is https://www.zoomgov.com/meeting/register/vJIscOitqzosHKp-LOrXrTwxnv21QhOOmu0.

Public Comment: Members of the public interested in submitting written comments may do so via email to Donna Sabis-Burns at donna.sabis-burns@ed.gov. Please note, written comments should pertain to the work of NACIE.

Reasonable Accommodations: The teleconference meeting is accessible to individuals with disabilities. If you will need an auxiliary aid or service for the meeting (e.g., interpreting service, assistive listening device, or materials in an alternate format), notify the contact person listed in this notice not later than April 21, 2022. Although we will attempt to meet a request received after that date, we may not be able to make available the requested auxiliary aid or service because of insufficient time to arrange it.

Access to Records of the Meeting: The Department will post the official open meeting report of this meeting on the OESE website at: https://oese.ed.gov/offices/office-of-indian-education/national-advisory-council-on-indian-education-oie/ 21 days after the meeting. Pursuant to the FACA, the public may also inspect NACIE records at the Office of Indian Education, United States Department of Education, 400 Maryland Avenue SW, Washington, DC 20202, Monday-Friday, 8:30 a.m. to 5:00 p.m. Eastern Time. Please email Donna Sabis-Burns at Donna.Sabis-Burns@ed.gov to schedule an appointment.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You also may access documents of the Department published in the Federal Register by using the article search feature at: www.federalregister.gov. Specifically, through the advanced search feature at this site, you can limit your search to documents published by the Department.

Authority: Section 6141 of the Elementary and Secondary Education Act of 1965 (ESEA), as amended (20 U.S.C. 7471).

Mark Washington,
Deputy Assistant Secretary for Administration, Office of Elementary and Secondary Education.

[FR Doc. 2022-07849 Filed 4-12-22; 8:45 am]

BILLING CODE 4000-01-P